DEPARTMENT OF AGRICULTURE

Forest Service

Revision of Land and Resource Management Plan for the Tonto National Forest; Counties of Coconino, Gila, Maricopa, Pinal, and Yavapai, Arizona

AGENCY: Forest Service, USDA.

ACTION: Notice of intent to revise the Tonto National Forest Land and Resource Management Plan and prepare an associated Environmental Impact Statement.

SUMMARY: As directed by the National Forest Management Act, the USDA Forest Service is revising the existing Tonto National Forest's Land and Resource Management Plan (hereafter referred to as Forest Plan) through development of an associated National Environmental Policy Act (NEPA) Environmental Impact Statement (EIS). This notice describes the documents available for review and how to obtain them; summarizes the needs to change to the existing Forest Plan; provides information concerning public participation and collaboration, including the process for submitting comments; provides an estimated schedule for the planning process, including the time available for comments; and includes the names and addresses of agency contacts who can provide additional information.

DATES: Comments concerning the Need to Change and Proposed Action provided in this notice will be most useful in the development of the revised plan and draft EIS if received by May 22, 2017. The agency expects to release a draft revised plan and draft EIS, developed through a collaborative public engagement process by late Spring 2018 and a final revised plan and final EIS by Summer/Fall 2019.

ADDRESSES: Send written comments to: Tonto National Forest, Attn: Plan Revision, 2324 East McDowell Road, Phoenix, AZ 85006. Comments may also be sent via email to tontoplan@fs.fed.us.

FOR FURTHER INFORMATION CONTACT: Kenna Belsky, Forest Planner, Tonto National Forest, 602-225-5378. More information on our forest plan revision process can be found on our Web site at www.tontoplan.org.

Individuals who use telecommunication devices for the deaf (TDD) may call the Federal Information Relay Service (FIRS) at 1-800-877-8339 between 8 a.m. and 8p.m., Eastern Time, Monday through Friday.

SUPPLEMENTARY INFORMATION: The National Forest Management Act (NFMA) of 1976 requires that every National Forest System (NFS) unit develop a forest plan. On April 9, 2012, the Forest Service finalized its land management planning rule (2012 Planning Rule, 36 CFR part 219), which describes requirements for the planning process and the content of the forest plans. Forest plans describe the strategic direction for management of forest resources for ten to fifteen years, and are adaptive and amendable as conditions change over time. Under the 2012 Planning Rule, the assessment of ecological, social, cultural, and economic conditions and trends is the first stage of the planning process (36 CFR 219.6). The second stage, formal plan revision, involves the development of our forest plan in conjunction with the preparation of an Environmental Impact Statement under the National Environmental Policy Act (NEPA). The third stage of the process is monitoring and feedback, which is ongoing over the life of the revised forest plans.

The Tonto National Forest has completed its assessment pursuant to 2012 Forest Planning Rule. The assessment was developed with public participation and includes an evaluation of existing information about relevant ecological, economic, cultural and social conditions, trends, and sustainability and their relationship to forest plans within the context of the broader landscape. The intent of the Tonto National Forest is that this information builds a common understanding prior to entering formal plan revision. With this notice, the Tonto National Forest is initiating formal plan revision and invites other governments, non-governmental parties, and the public to contribute. The intent of public engagement is to inform development of the plan revision. We encourage contributors to share material that may be relevant to the planning process, including desired conditions for the Tonto National Forest. As we develop public engagement opportunities to assist with the plan revision phase, public announcements will be made and information will be posted on the Forest's Web site: www.tontoplan.org. If you would like to contribute to the process or for more information email tontoplan@fs.fed.us, or contact Kenna Belsky, Forest Planner, Tonto National Forest, 602-225-5378.

Name and Address of the Responsible Official

Neil Bosworth, Forest Supervisor, Tonto National Forest, 2324 E McDowell Road, Phoenix, Arizona 85006.

Nature of the Decision To Be Made

The Tonto National Forest is preparing an EIS to revise the existing forest plan. The EIS process is meant to inform the Forest Supervisor so he can decide which alternative best maintains and restores National Forest System terrestrial and aquatic resources while providing ecosystem services and multiple uses, as required by the National Forest Management Act and the Multiple Use Sustained Yield Act.

The revised forest plan will describe the strategic intent of managing the Forest for the next 10 to 15 years and will address the identified needs for change to the existing land management plans. The revised forest plan will provide management direction in the form of desired conditions, objectives, standards, guidelines, and suitability of lands. It will identify delineation of new management areas and possibly geographic areas across the Forest; identify the timber sale program quantity; make recommendations to Congress for Wilderness designation; and list rivers and streams eligible for inclusion in the National Wild and Scenic Rivers System. The revised forest plan will also provide a description of the plan area's distinctive roles and contributions within the broader landscape, identify watersheds that are a priority for maintenance or restoration, include a monitoring program, and contain information reflecting expected possible actions over the life of the plan.

It is also important to identify the types of decisions that will not be made within the revised forest plan. The revised forest plan will represent decisions that are strategic in nature, but will not make site-specific project decisions and will not dictate day-to-day administrative activities needed to carry on the Forest Service's internal operations. The authorization of project level activities will be based on the guidance/direction contained in the revised plan, but will occur through subsequent project specific NEPA analysis and decision-making.

The revised forest plan will provide broad, strategic guidance that is consistent with other laws and regulations. Though strategic guidance will be provided, no decisions will be made regarding the management of individual roads or trails, such as those might be associated with a Travel Management plan under 36 CFR part 212. Some issues (e.g., hunting regulations), although important, are beyond the authority or control of the National Forest System and will not be considered.

Purpose and Need (Needs for Change) and Proposed Action

According to the National Forest Management Act, forest plans are to be revised at least every 15 years. The purpose and need for revising the current forest plan are to: (1) Update the Forest Plan which was approved in 1985 and is over 30 years old, (2) reflect changes in economic, social, and ecological conditions, new policies and priorities, and new information based on monitoring and scientific research, and (3) address the preliminary identified needs for change to the existing plan, which are summarized below. Extensive public and employee involvement, along with science-based evaluations, have helped to identify theses preliminary needs for change to the existing forest plan.

The proposed action is to revise the Forest Plan to address the identified needs for change to the existing Forest Plan. Alternatives to the Proposed Action will be developed to address significant issues that will be identified through scoping.

What follows is a summary of the preliminary identified needs for change. A more fully developed description of the preliminary needs for change, which has been organized into several resource and management topic sections, is available for review on the plan revision Web site at: www.tontoplan.org/public-involvement/needs-to-change.

Throughout the Plan

1. There is a need for plan components that incorporate best available scientific information (BASI).

2. There is a need to reduce the complexity of plan components related to management areas that fragment the landscape by their arrangement, boundaries, and differing management direction.

3. There is a need to remove plan components that require developing additional planning documents, many of which require updates on a regular cycle.

4. There is a need for plan components that are adaptable to changes in technology, tools, and communication style demands.

5. There is a need for management approaches that emphasize public education about the Tonto National Forest's diverse ecological, social, and economic resources, the multiple-use philosophy, public laws and regulations, and management strategies.

Monitoring

6. There is a need for a monitoring program that tracks progress toward desired conditions and allows for a responsive adaptive management program with available resources.

Collaboration and Partnerships

7. There is a need to include management approaches that strengthen existing relationships, promote new relationships, and incorporate strategies that prioritize partnerships (e.g. local, state, and federal agencies, tribal governments, law enforcement, permitees, recreation and forest user groups, environmental groups, users with historic ties to the forest, and youth groups).

8. There is a need for management approaches that promote seeking outside assistance in addition to working with partners and volunteers to manage resources and monitor activities.

9. There is a need for management approaches that emphasize better coordination and collaboration with other forests, local governments, and tribes to minimize conflict between local planning and zoning direction as a result of our decisions, while at the same time becoming more aware of how local regulation might enhance our own management goals, or alternatively, interfere with our own desired outcomes.

10. There is a need for management approaches that integrate forest restoration and tribal needs, for working across boundaries in partnership with tribes to manage landscapes, and to address threats to tribal resources to meet common objectives.

Terrestrial Ecosystems

11. There is a need to develop desired conditions and other plan components that support heterogeneity and habitat diversity at multiple spatial scales.

12. There is a need to include plan components that focus on addressing the impacts of exotic and invasive species on terrestrial and aquatic ecosystems.

13. There is a need to develop desired conditions, standards, and guidelines that address terrestrial and aquatic habitat linkages and connectivity for species migration and movement across the landscape.

14. There is a need for plan components that incorporate adaptive management strategies that increase ecosystem resiliency to changing environmental conditions and stressors.

15. There is a need for standards or guidelines that prioritize use of native plant materials (the use of local and genetically appropriate seed sources) for revegetation, restoration and rehabilitation of native plant communities to provide for the conservation of ecosystem diversity and maintain healthy ecosystem function.

16. There is a need to add plan components that emphasize landscape scale restoration.

17. There is a need to develop desired conditions (at multiple scales) for vegetation structure by promoting a diversity of seral states, vegetation function, and species composition.

Frequent Fire Ecosystems

18. There is a need for plan components, including desired conditions and objectives that recognize fire-adapted ecosystems, the role of fire on the landscape (including wilderness), and its use as a management tool, including planned and unplanned ignitions.

Desert Ecosystems

19. There is a need for plan components, including desired conditions and standards and guidelines, to address current and foreseeable stressors in desert ecosystems (e.g., fire, exotic species, and other disturbances) and to better understand post-disturbance recovery of desert species.

Soils

20. There is a need to develop standards and guidelines that promote the maintenance, restoration and monitoring of soil condition and function (e.g., hydrology, stability, and nutrient cycling) by improving and maintaining sufficient ground cover (biotic and abiotic components).

Riparian Ecosystems

21. There is a need for desired conditions that identify appropriate riparian characteristics (e.g., biodiversity, connectivity, water availability) that promote functionality and resiliency while taking into account multiple stressors.

22. There is a need for standards and guidelines that minimize ecological impacts of multiple uses in riparian areas.

Watersheds and Water Resources

23. There is a need for standards and guidelines that reduce pollutant runoff into streams.

24. There is a need for providing plan components on the sustainable management of groundwater and groundwater dependent ecosystems (springs, wetlands, riparian areas, perennial waters) and their interconnections.

25. There is a need to develop plan components for the long term health and sustainability of watersheds utilizing best available scientific information.

26. There is a need to develop plan components to ensure stream channels and floodplains are dynamic and resilient to disturbances.

At-Risk Species

27. There is a need to develop standards or guidelines to provide for the conservation and recovery of federally listed species, as well as maintain viable populations of species of conservation concern.

Climate Change

28. There is a need to include plan components that consider potential climate change impacts (e.g., increases in storm events, uncharacteristic wildfire, drought, flooding, and other extreme weather) to ecosystems and natural resources.

Social and Economic Conditions

29. There is a need to add plan components that recognize the Tonto National Forest's role in contributing to local economies, including service-based sectors such as recreation and tourism, timber, grazing, and other multiple-use related activities and products.

Ecosystems Services

30. There is a need to include plan components for key ecosystem services identified in the Assessment including: Water for consumption; water for recreation; habitat for hunting, fishing, and watchable wildlife; sustainable and productive rangelands; and cultural heritage.

31. There is a need for updating plan components that provide for the management of sustainable water supply for multiple uses (e.g. wildlife, grazing, and recreation) including public water supplies.

Timber and Forest Products

32. There is a need for plan components to ensure the sustainability and availability of forest products such as firewood, medicinal and ceremonial plants, and edible plants.

33. There is a need for desired conditions that incorporate a wide range of silvicultural practices to promote forest health, resiliency, and sustainability.

Rangeland Resources

34. There is a need to add plan components for rangeland management that maintain or restore ecological integrity of rangelands.

35. There is a need for plan components to allow flexibility in rangeland management to prepare for changing conditions such as drought, fire, social and economic needs.

Recreation

36. There is a need to include plan components for sustainable recreation management to ensure that recreation resources are integrated into all resource management decisions.

37. There is a need for desired conditions to address the long-term sustainability of recreation infrastructure (e.g., trails, facilities, roads), maintenance, design, and improvement.

38. There is a need for management approaches to address changing trends in services, activities, and types of facilities desired by the public, while balancing those trends with other resources.

39. There is a need for plan components to address user conflicts (e.g., recreational shooting and hikers, equestrians and bicyclists, and motorized and non-motorized users).

Scenic Character

40. There is a need for plan components to incorporate scenery management with all forest management (e.g., restoration, habitat diversity, timber management) to further positive outcomes for all resources.

Renewable and Nonrenewable Energy Resources, Mineral Resources & Geologic Hazards

41. There is a need for desired conditions that address transmission corridors and renewable energy generation, including wind, solar, biomass, and geothermal, while protecting natural resources, heritage and sacred sites, traditional tribal activities, and scenery.

42. There is a need for plan components regarding the use of common variety mineral materials, such as commercial contracts, personal use, and free use permits.

43. There is a need for standards and guidelines for meteorite collection, rock hounding and mineral collection.

Infrastructure

44. There is a need for plan components that ensure sustainable infrastructure (e.g., roads, trails, recreation and administrative facilities, range improvements, maintenance backlog, etc.).

Cultural and Historic Resources and Tribal Uses

45. There is a need for plan components aimed at managing for Native American traditional cultural properties and sacred sites, and non-Native American traditional cultural properties, while conserving anonymity of such sites where appropriate.

46. There is a need for plan components that protect historic properties and tribal use areas at risk of damage or destruction during non-prescribed/unplanned fire.

47. There is a need to update plan components to protect areas that may be identified as a sacred site or part of an important cultural landscape by tribe.

48. There is a need for desired conditions in the plan that address the alignment of heritage resources management objectives (the management of historic properties and landscapes, sacred sites, contemporary uses) with other resource management objectives (ecosystem restoration, rangeland management, recreation).

Land Ownership, Status, Use, and Access

49. There is a need to develop, modify, or remove plan components to allow flexible and efficient management of special uses while balancing resource protection with public needs.

50. There is a need to develop plan components related to Forest Service lands acquisitions, disposals, and exchanges.

51. There is a need for plan components that encourage the protection of existing public access and address the acquisition of new public access opportunities.

52. There is a need to include management approaches to develop a strategy to address issues related to known and suspected trespass and encroachment issues present on the forest.

Designated Areas

53. There is a need for the revised plan to identify and evaluate potential additions to the National Wilderness Preservation System and eligibility of rivers for inclusion in the National Wild and Scenic Rivers Systems, and potentially other types of designated areas.

54. There is a need to reevaluate designated and proposed special areas that no longer suite the original purpose for designation (i.e., research natural areas, botanical areas, burro territories, etc.), excluding congressionaly designated areas.

Public Involvement

A Notice of Initiation of the assessment phase of forest plan revision for the Tonto National Forest was published in the Federal Register on February 26, 2014 (79 FR 10763). Prior to the formal initiation of the assessment, the Tonto National Forest held four listening sessions in Scottsdale, Globe, Payson, and Mesa, Arizona. These listening sessions provided existing collaborative porential and limitations and helped the plan revision team organize the public participation efforts for forest plan revision. In March of 2014 the Tonto National Forest hosted two all-day workshops to solicit comments, input, and desires from the public, governmental entities, tribes, land grants, and nongovernmental organization for public participation through the forest plan revision process. Between May-July 2014, eight community forums provided an introduction to forest plan revision and an opportunity for the public to provide input for the assessment by expressing how they use and value the forest, and what trends or changes they have observed. In September and October 2016 the Tonto National Forest hosted seven Needs to Change Public Meetings to discuss key findings from the draft assessment and collabotate on needs to change. The discussion focused on eleven key themes that ranged from ecological sustainability; social, cultural, and economic sustainability; and forest-wide management. Discussions from these meetings helped to shape the Draft Needs to Change document which was available for public reivew between December 15, 2016-January 11, 2017. Comments received from the public along with responses are posted to the Web site: www.tontoplan.org. The final needs to change statements are based on results from the assessment, input from a round of seven public meetings, and two rounds of public comment.

Additionally, the Tonto National Forest is utilizing internet based collabotation techniquies to gather public input and engaging communities at a local level through presentations at meetings hosted by organizations, government groups and Tribes; informational booths at fairs and local community events; and presentations and field trips for local schools. Public Informaiton to the public was provided by a dedicated Forest Plan revision Web page and through mailings, flyers, news releases, Twitter, and radio interview. Detailed information, including dates and notes of specific events, can be found on the Tonto National Forest Plan Revision Web site: www.tontoplan.org. Any comments related to the Tonto National Forest's assessment report that are received following the publication of this Notice will be considered in the draft and final environmental impact statements.

Scoping Process

Written comments received in response to this notice will be analyzed to complete the identification of the needs for change to the existing plan, further develop the proposed action, and identify potential significant issues. Significant issues will, in turn, form the basis for developing alternatives to the proposed action. Comments on the preliminary needs for change and proposed action will be most valuable if received by May 23, 2017, and should clearly articulate the reviewer's opinions and concerns. Comments received in response to this notice, including the names and addresses of those who comment, will be part of the public record. Comments submitted anonymously will be accepted and considered in the NEPA process; however, anonymous comments will not provide the Agency with the ability to provide the respondent with subsequent environmental documents, nor will anonymous comments provide standing to the commenter for the eventual Objection process. See the below Objection process material, particularly the requirements for filing an objection, for how anonymous comments are handled during the objection process. Refer to the Forest's plan revision Web site (www.tontoplan.org) for information on when public meetings will be scheduled for refining the proposed action and identifying possible alternatives to the proposed action.

Applicable Planning Rule

Preparation of the revised forest plan for the Tonto National Forest began with the publication of a Notice of Assessment Initiation in the Federal Register on February 26, 2014 (79 FR 10763) and was initiated under the planning procedures contained in the 2012 Forest Service planning rule (36 CFR part 219 (2012)).

Permits or Licenses Required To Implement the Proposed Action

No permits or licenses are needed for the development or revision of a forest plan.

Decisions Will Be Subject To Objection

The decision to approve the revised forest plan for the Tonto National Forest will be subject to the objection process identified in 36 CFR part 219 subpart B (219.50 to 219.62). According to 36 CFR 219.53(a), those who may file an objection are individuals and entities who have submitted substantive formal comments related to plan revision during the opportunities provided for public comment during the planning process.

Documents Available for Review

The Needs for Change documentation, Assessment Report including specialist reports, summaries of the public meetings and public meeting materials, and public comments are posted on the Forest's Web site at: www.tontoplan.org. As necessary or appropriate, the material available on this site will be further adjusted as part of the planning process using the provisions of the 2012 planning rule.

Authority: 16 U.S.C. 1600-1614; 36 CFR part 219 [77 FR 21260-21273].

Dated: March 20, 2017.
Jeanne M. Higgins,
Associate Deputy Chief, National Forest System.

[FR Doc. 2017-06788 Filed 4-5-17; 8:45 am]

BILLING CODE 3411-15-P